DEPARTMENT OF TRANSPORTATION

Office of the Secretary

Research and Special Programs Administration

Results of a Departmentwide Program Evaluation of the Hazardous Materials Transportation Programs (HMPE)

AGENCY: Office of Inspector General (OIG) and Research and Special Programs Administration (RSPA), DOT.

ACTION: Notice of Findings and Recommendations.

SUMMARY: This notice announces the completion of a Departmentwide Program Evaluation of the Hazardous Materials Transportation Programs. The program evaluation found that the Department's hazardous materials program is working reasonably well, but could be improved through Departmentwide strategic planning and program coordination, more focused delivery, and better data. To address these findings, the program evaluation recommended that DOT establish a focal point to administer and deliver a Departmentwide hazardous materials program, aimed at intermodal and cross-modal issues, to provide for more effective deployment of its resources. DOT should also place more emphasis on hazardous materials safety in its Strategic and Performance Plan(s) to better guide program delivery and measure results. Furthermore, the program evaluation recommended that the Department develop DOT-wide strategies to focus more on high-risk or problem shippers through targeted outreach activities and inspections, and strengthen its training standards to improve industry safety practices and compliance with the hazardous materials regulations to reduce incidents. The program evaluation also recommended that DOT take steps to improve its hazardous materials data Departmentwide and develop ways to increase data availability and usefulness. The results of the Hazardous Materials Program Evaluation (HMPE) are intended to improve the effectiveness and efficiency of the Department's hazardous materials program. Copies of the Executive Summary and full report are available electronically through DOT at: http://hazmat.dot.gov/hmpe.htm.

FOR FURTHER INFORMATION CONTACT: Jackie A. Goff, Esq., 202-493-0326, or George A. Whitney, 202-366-4831, HMPE Co-Chairs, U.S. Department of Transportation; 400 Seventh Street SW, Washington, DC 20590-0001.

SUPPLEMENTARY INFORMATION:

I. Background

On March 9, 1999, DOT published a Notice in the Federal Register (64 FR 11528) announcing the initiation of an internal Departmentwide Program Evaluation of the Hazardous Materials Transportation Programs. In that Notice it was announced that the HMPE team was being jointly lead by the Office of Inspector General (OIG) and the Research and Special Programs Administration (RSPA). The HMPE team was staffed by 10 full-time persons, including at least one full-time person from the OIG and RSPA and each of the following DOT Operating Administrations: the United States Coast Guard; the Federal Aviation Administration; the Federal Motor Carrier Safety Administration; and the Federal Railroad Administration.

The HMPE team examined the Federal hazardous materials transportation law, the program structure defined by the delegation of authority within DOT, and assessed program delivery. The HMPE was intended to determine the effectiveness of DOT's current hazardous material programs, including the division of responsibilities across and within modes, and the allocation of resources dedicated to specific functions. The HMPE focused on cross-modal issues, including an analysis and critique of DOT's current program intervention tools (regulation, education, training, outreach, inspection, and enforcement).

The scope of the HMPE included those activities covered by 49 CFR parts 106 (Rulemaking Procedures) and 107 (Hazardous Materials Program Procedures), and the Hazardous Materials Regulations (HMR), 49 CFR parts 171-180. International shipments of hazardous materials were also included in the scope of the HMPE to permit a review of the International Maritime Dangerous Goods Code (IMDG) and the International Civil Aviation Organization's Technical Instructions on the Transportation of Dangerous Goods by Air (ICAO), both of which are authorized by HMR as alternative standards for many of the requirements in the HMR for shipments destined for import export.

II. Findings

There are roughly 300 million hazardous materials shipments in the nation each year and the vast majority of these shipments arrive at their destinations safely. In 1998, there were 15,322 reported hazardous materials incidents, including 429 serious incidents; 13 deaths; and 198 injuries. Although this is a relatively good safety record, given the total amount of shipments and movements, there remains the potential for catastrophic incidents in the transportation of hazardous materials where multiple fatalities, serious injuries, large-scale evacuations, and other costs to society could result.

Total tons of hazardous materials produced are forecast to grow by 2 percent per year. Growth in the amount of hazardous materials transported by air and intermodally could be 4 times and 3 times faster, respectively, than the overall production growth. Therefore, the potential risk to the public may also increase unless effective safeguards are in place. The Department has responsibility for protecting the public from the inherent risks associated with transporting hazardous materials.

The HMPE team found that DOT's hazardous materials programs work reasonably well but could be improved. The hazardous materials programs lack Departmentwide strategic planning and direction necessary to ensure effective deployment of resources, and there are insufficient reliable data upon which to make informed program decisions. The program evaluation's major findings were:

• The Secretarial delegations do not provide for Departmentwide coordination or oversight of the five Operating Administrations responsible for ensuring hazardous materials safety. To address this, DOT needs to establish a focal point to administer and deliver a Departmentwide hazardous materials program, aimed at intermodal and cross-modal issues, to provide for more effective deployment of resources. DOT should also place more emphasis on hazardous materials safety in its Strategic and Performance Plan(s) to better guide program delivery and measure results.

• Shippers of hazardous materials generally receive less attention Departmentwide than carriers, yet they offer the greatest opportunity to improve safety. Shippers are a common element across the Operating Administrations, perform critical functions early in the transportation stream, and can impact safety system-wide. As a result, the Department needs to develop Departmentwide strategies and actions to focus more on high-risk or problem shippers through targeted outreach and inspection activities.

• Human error continues to be the single greatest contributing factor in hazardous materials incidents and DOT has not been effective in changing this trend. To address this, in part, DOT should strengthen its training standards to improve industry safety practices and compliance with the HMR to reduce incidents. Also, the traveling public is largely unaware of the dangers of the hazardous materials they bring into the transportation system and the dangerous consequences of unsafe driver actions around vehicles, especially those transporting hazardous materials. Accordingly, DOT needs to develop a coordinated, national campaign to increase the traveling public's awareness of the dangers of hazardous materials and reduce the risk of hazardous materials incidents.

• DOT lacks reliable, accurate, and timely data to measure program effectiveness and make informed program delivery and resource decisions. DOT needs to improve hazardous materials census, incident, compliance, and budget data Departmentwide and develop ways to increase data availability and usefulness. DOT should also improve its analysis of incident data to better understand the root causes of hazardous materials incidents and address these through Departmentwide hazardous materials actions and broader safety program initiatives.

• In addition, a number of areas were identified requiring further analysis or other actions related to: better understanding undeclared shipments; the complexity and adequacy of the current regulations; safety gaps related to hazardous materials shipments in the US mail; enhanced inspection authority; and ways to improve DOT's current performance measure.

III. Recommendations

The HMPE team recommends the hazardous materials program be improved by:

• Strengthening strategic planning and coordination by establishing an institutional capacity in the Department to administer and deliver a coordinated hazardous materials program with the authority to establish Departmentwide policy, program objectives, and priorities and focus budget and resource strategies. For example, if analysis of inspection and incident data revealed that improper preparation of closure devices on plastic drums was becoming a problem, the recommended institutional capacity would be able to develop Departmentwide objectives and strategies to address the issue.

• Enhancing program delivery by identifying and focusing more on high-risk or problem shippers, more effectively using all available tools at DOT's disposal, and identifying other critical points in the transportation stream for program focus. For example, problem shippers, such as those with many hazardous materials incidents, may be targeted for inspections, while infrequent hazardous materials shippers may benefit more from outreach.

• Improving outreach aimed at the traveling public by better educating passengers on what materials are hazardous and should not be carried aboard, or placed in stowed luggage on, planes, trains, and buses. DOT should also take steps to increase public awareness about the dangerous consequences of unsafe driver actions around vehicles transporting hazardous materials.

• Strengthening the training regulations and tasking the institutional capacity to work with RSPA, the other Operating Administrations, and industry to identify ways to ensure hazardous materials employees are adequately trained to carry out their jobs in a safe manner.

• Using strike force inspections to cross-train inspectors as well as enforce regulations. Strike force operations concentrate inspectors from the Operating Administrations and other Federal, state, and local agencies at intermodal locations for a specific time period to conduct hazardous materials inspections of more than one mode of transportation using that targeted location. In addition to enforcing compliance, strike force operations can be used to train inspectors from one Operating Administration on the issues, problems, and regulatory requirements of other Operating Administrations.

• Enriching the quality of hazardous materials data by tasking the Bureau of Transportation Statistics to work with the Operating Administrations to determine data needs, collection strategies, and analytical techniques.

• Having the new institutional capacity address several regulatory and programmatic issues identified by the team during the program evaluation, but which were too complex or time consuming for this program evaluation.

Summary findings of the HMPE were published in the combined DOT Performance Plan (FY 2001) and Report (FY 1999) dated March 31, 2000, in support of the Government Performance and Results Act. An electronic copy of the HMPE Executive Summary and the full HMPE report is available on the internet at: http://hazmat.dot.gov/hmpe.htm.

Issued in Washington, DC on April 5, 2000.
Jackie A. Goff,
Co-Chair, Hazardous Materials Program Evaluation Team.
George A. Whitney,
Co-Chair, Hazardous Materials Program Evaluation Team.

[FR Doc. 00-8847 Filed 4-10-00; 8:45 am]

BILLING CODE 4910-60-P